SECURITIES AND EXCHANGE COMMISSION

[File No. 500-1]

Order of Suspension of Trading; In the Matter of Anthracite Capital, Inc., Auto Data Network Inc., Avenue Group, Inc., Ckrush, Inc., Clickable Enterprises, Inc., and DCI USA, Inc.

May 4, 2012

It appears to the Securities and Exchange Commission that there is a lack of current and accurate information concerning the securities of Anthracite Capital, Inc. because it has not filed any periodic reports since the period ended September 30, 2009.

It appears to the Securities and Exchange Commission that there is a lack of current and accurate information concerning the securities of Auto Data Network Inc. because it has not filed any periodic reports since the period ended November 30, 2004.

It appears to the Securities and Exchange Commission that there is a lack of current and accurate information concerning the securities of Avenue Group, Inc. because it has not filed any periodic reports since the period ended March 31, 2009.

It appears to the Securities and Exchange Commission that there is a lack of current and accurate information concerning the securities of Ckrush, Inc. because it has not filed any periodic reports since the period ended March 31, 2008.

It appears to the Securities and Exchange Commission that there is a lack of current and accurate information concerning the securities of Clickable Enterprises, Inc. because it has not filed any periodic reports since the period ended March 31, 2008.

It appears to the Securities and Exchange Commission that there is a lack of current and accurate information concerning the securities of DCI USA, Inc. because it has not filed any periodic reports since the period ended June 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 4, 2012, through 11:59 p.m. EDT on May 17, 2012.

By the Commission.
Elizabeth M. Murphy,
Secretary.

[FR Doc. 2012-11153 Filed 5-4-12; 4:15 pm]

BILLING CODE 8011-01-P